DEPARTMENT OF THE INTERIOR

National Park Service

[NPS-NER-SARA-19331; PS.SSARA0003.00.1]

Minor Boundary Revision at Saratoga National Historical Park

AGENCY: National Park Service, Interior.

ACTION: Notification of boundary revision.

SUMMARY: The boundary of Saratoga National Historical Park is modified to include approximately 169 acres of land, more or less, located in Saratoga County, New York, immediately adjoining the boundary of Saratoga National Historical Park. Subsequent to the boundary revision, the National Park Service will acquire the land by purchase from Open Space Conservancy, Inc., a nonprofit conservation organization.

DATES: The effective date of this boundary revision is March 3, 2016.

ADDRESSES: The map depicting this boundary revision is available for inspection at the following locations: National Park Service, Land Resources Program Center, Northeast Region, New England Office, 115 John Street, 5th Floor, Lowell, MA 01852, and National Park Service, Department of the Interior, 1849 C Street NW., Washington, DC 20240.

FOR FURTHER INFORMATION CONTACT: Deputy Realty Officer Rachel McManus, National Park Service, Land Resources Program Center, Northeast Region, New England Office, 115 John Street, 5th Floor, Lowell, MA 01852, telephone (978) 970-5260.

SUPPLEMENTARY INFORMATION: Notice is hereby given that, pursuant to 54 U.S.C. 100506(c), the boundary of Saratoga National Historical Park is modified to include an adjoining tract containing 169 acres of land. The boundary revision is depicted on Map No. 374/127824, dated February 5, 2015.

54 U.S.C. 100506(c) provides that, after notifying the House Committee on Natural Resources and the Senate Committee on Energy and Natural Resources, the Secretary of the Interior is authorized to make this boundary revision upon publication of notice in the Federal Register. The Committees have been notified of this boundary revision. This boundary revision and subsequent acquisition will ensure preservation and protection of the park's scenic and historic resources.

Dated: January 6, 2016.
Michael A. Caldwell,
Regional Director, Northeast Region.

[FR Doc. 2016-04644 Filed 3-2-16; 8:45 am]

BILLING CODE 4310-WV-P